DEPARTMENT OF AGRICULTURE

Forest Service

Six Rivers National Forest, California, Lower Trinity and Mad River Travel Management EIS

AGENCY: Forest Service, USDA.

ACTION: Notice of Intent to prepare an Environmental Impact Statement.

SUMMARY: The Six Rivers National Forest (Six Rivers NF) will prepare an Environmental Impact Statement to disclose the impacts associated with the following proposed actions:

1. The prohibition of cross-country motor vehicle travel (with the exception of snowmobiles) off designated National Forest NFTS (NFTS) roads and trails by the public except as allowed by permit or other authorization.

2. Make a non-significant amendment to the Six Rivers NF Land and Resource Management Plan (Six Rivers Forest Plan) to conform with the Travel Management Rule (36 CFR Part 212 Subpart B).

3. Add approximately 58 miles (206 segments) of existing unauthorized routes to the NFTS as motorized trails open to the public for motor vehicle use by vehicle class and season of use.

4. Approximately 7 miles (5 segments) of existing NFTS roads are proposed for dual management as both a Maintenance level 1 (closed) road and as a motorized trail open to vehicles 50″ or less in width.

5. Make the following change to NFTS roads: Allow both highway licensed vehicles and non-highway licensed vehicles to use approximately 25½ miles (17 segments) of existing NFTS roads currently open to highway licensed vehicles only.

6. Make the following changes to NFTS trails:

a. Allow motor vehicles 50 inches or less in width on approximately 4 miles (1 segment) of existing NFTS trail currently open to motorcycles.

b. Convert approximately 6 miles (2 segments) of existing NFTS motorized trails to NFTS non-motorized trails.

DATES: The comment period on the proposed action will extend 45 days from the date the Notice of Intent is published in the Federal Register. Completion of the Draft Environmental Impact Statement (draft EIS) is expected in spring 2009 and the Final Environmental Impact Statement (final EIS) is expected in summer 2009.

ADDRESSES: Send written comments to: Travel Management Team, Six Rivers National Forest, 1330 Bayshore Way, Eureka, CA 95501. Electronic comments, in acceptable plain text (.txt), rich text (.rtf), or Word (.doc) may be submitted to comments-pacificsouthwest-six-rivers@fs.fed.us. Please insure that “Travel Management” occurs in the subject line.

FOR FURTHER INFORMATION CONTACT: Leslie Burkhart, Six Rivers National Forest, 1330 Bayshore Way, Eureka, CA 95501. Phone: 707-441-3520. E-mail: comments-pacificsouthwest-six-rivers@fs.fed.us with “Travel Management” in the subject line.

SUPPLEMENTARY INFORMATION:

Background

Over the past few decades, the availability and capability of motor vehicles, particularly off-highway vehicles (OHVs) and sport utility vehicles (SUVs) has increased tremendously. Nationally, the number of OHV users has climbed sevenfold in the past 30 years, from approximately 5 million in 1972 to 36 million in 2000. The ten states with the largest population also have the most OHV users. California has 4.35 million OHV users accounting for almost 11% of the U.S. total (Off-Highway Vehicle Recreation in the United States, Regions and States: A National Report from the National Survey on Recreation and the Environment (NSRE) Cordell, Betz, Green and Owens June 2005). There were 786,914 all terrain vehicles (ATVs) and OHV motorcycles registered in 2004, up 330% since 1980. Annual sales of ATVs and OHV motorcycles in California were the highest in the U.S. for the last 5 years. Four-wheel drive vehicle sales in California also increased by 1500% to 3,046,866 from 1989 to 2002.

Unmanaged OHV use has resulted in unplanned roads and trails, erosion, watershed and habitat degradation, and impacts to cultural resource sites. Compaction and erosion are the primary effects of OHV use on soils. Riparian areas and aquatic dependent species are particularly vulnerable to OHV use. Unmanaged recreation, including impacts from OHVs, is one of “Four Key Threats Facing the Nation's Forests and Grasslands.” (USDA Forest Service, June 2004).

On August 11, 2003, the Pacific Southwest Region of the Forest Service entered into a Memorandum of Intent (MOI) with the California Off-Highway Motor Vehicle Recreation Commission, and the Off-Highway Motor Vehicle Recreation Division of the California Department of Parks and Recreation. That MOI set in motion a region-wide effort to “Designate OHV roads, trails, and any specifically defined open areas for motor vehicles on maps of the 19 National Forests in California by 2007.” On November 9, 2005, the Forest Service published final travel management regulations in the Federal Register (FR Vol. 70, No. 216-Nov. 9, 2005, pp 68264-68291). Subpart B of the final Travel Management Rule requires designation of those roads, trails, and areas that are open to motor vehicle use on National Forests. Route designations will be made by class of vehicle and, if appropriate, by time of year. The final rule allows for motor vehicle use only on designated system routes and in designated areas.

On some National Forest System lands, long managed as open to cross-country motor vehicle travel, repeated use has resulted in unplanned, unauthorized, roads and trails. These routes generally developed without environmental analysis or public involvement, and do not have the same status as National Forest System roads and National Forest System trails included in the NFTS. Nevertheless, some unauthorized routes are well-sited, provide excellent opportunities for outdoor recreation by motorized and non-motorized users, and would enhance the National Forest System of designated roads, trails and areas. Other unauthorized routes are poorly located and cause unacceptable impacts. Only NFTS roads and NFTS trails can be designated for motor vehicle use. In order for an unauthorized route to be designated, it must first be added to the NFTS.

In accordance with the MOI, the Six Rivers NF completed an inventory of unauthorized routes on National Forest System lands and identified over 250 miles of unauthorized routes. The Six Rivers NF then used an interdisciplinary process to evaluate the routes that included working with the public to determine whether any of the unauthorized routes should be proposed for addition to the Six Rivers NFTS in this proposed action. The route evaluation identified a number of routes which could be considered in this or future decisions on the NFTS as a part of travel management on the Lower Trinity and Mad River Ranger Districts of the Six Rivers National Forest. Roads and trails (there are no areas) that are currently part of the Six Rivers NFTS and are open to motor vehicle travel will remain designated for such use except as described below under Proposed Action. This proposal focuses only on the prohibition of motor vehicle travel off designated routes and needed changes to the Six Rivers NFTS, including the addition of some unauthorized routes to the Six Rivers NFTS and minor changes to the existing motor vehicle restrictions. The proposed action is being carried forward in accordance with the Travel Management Rule (36 CFR Part 212, Subpart B).

In accordance with the Travel Management Rule, following a decision on this proposal, a Motor Vehicle Use Map (MVUM) will be published for both the Lower Trinity Ranger District and Mad River Ranger District of the Six Rivers NF. These MVUMs will identify all roads and trails that are designated for motor vehicle use. The MVUMs shall specify the classes of vehicles and, if appropriate, the times of year for which use is designated. Unauthorized routes not included in this proposal are not precluded from future consideration for addition to the NFTS and inclusion in a MVUM. Future decisions associated with changes to the MVUMs may trigger the need for documentation of environmental analysis.

Purpose and Need for Action

The following needs have been identified for this proposal:

1. There is a need for regulation of unmanaged cross-country motor vehicle travel by the public. The proliferation of unplanned, unauthorized, non-sustainable roads, trails, and areas created by cross-country travel adversely impacts the environment. The 2005 Travel Management Rule, 36 CFR Section 212, Subpart B, provides for a system of NFS roads, NFS trails, and areas on National Forest System lands that are designated for motor vehicle use. After roads, trails, and areas are designated, motor vehicle use off designated roads and trails and outside designated areas is prohibited by 36 CFR 261.13. Subpart B is intended to prevent resource damage caused by unmanaged motor vehicle use by the public. In accordance with national direction, implementation of Subpart B of the travel management rule for the Six Rivers National Forest is scheduled for completion in 2009.

2. There is a need for the Six Rivers Forest Plan to conform to the Travel Management Rule, 36 CFR 212, Subpart B. A review of the Six Rivers Forest Plan has found that OHV use is restricted to designated routes but there is no general prohibition of motor vehicle travel off of designated roads and trails.

3. There is a need for limited changes to the Six Rivers NFTS to:

a. Provide motor vehicle access to dispersed recreation opportunities (camping, hunting, fishing, hiking, horseback riding, etc.). A substantial portion of known dispersed recreation activities are not typically located directly adjacent to NFTS roads or NFTS motorized trails. Some dispersed recreation activities depend on foot or horseback access, and some depend on motor vehicle access. Those activities accessed by motor vehicles are typically accessed by short spurs that have been created primarily by the passage of motor vehicles. Many such unauthorized “user-created” routes are not currently part of the NFTS. Without adding them to the NFTS and designating them on a MVUM, the regulatory changes noted above would make continued use of such routes illegal and would preclude access by the public to many dispersed recreation activities.

b. Provide a diversity of motorized recreation opportunities (4x4 vehicles, motorcycles, ATVs, SUVs, passenger vehicles, etc.). It is Forest Service policy to provide a diversity of road and trail opportunities for experiencing a variety of environments and modes of travel consistent with the National Forest recreation role and land capability (FSM 2353.03(2)). Implementation of Subpart B of the Travel Management Rule will severely reduce acres and miles of motorized recreation opportunities relative to current levels. As a result, there is a need to consider limited changes to the NFTS.

In making any limited changes to the National Forest Transportation system, the Six Rivers NF will be considering criteria contained in Subpart B of the Travel Management Rule, which include the following:

A. Impacts to natural and cultural resources.

B. Public safety.

C. Access to public and private lands.

D. Availability of resources for maintenance and administration of roads trails and areas that would arise if the uses under consideration are designated.

E. Minimizing damage to soil, watershed, vegetation, and other forest resources.

F. Minimizing harassment of wildlife and significant disruption of wildlife habitat.

G. Minimizing conflicts between motor vehicles and existing or proposed recreational uses of NFS lands or neighboring federal lands.

H. Minimizing conflicts among different classes of motor vehicle uses of NFS lands or neighboring federal lands.

I. Compatibility of motor vehicle use with existing conditions in populated areas, taking into account sound, emissions, and other factors.

When making any limited changes to National Forest System Roads, the Six Rivers NF will also consider the following:

1. Speed, volume, composition and distribution of traffic on roads.

2. Compatibility of vehicle class with road geometry and road surfacing

3. Maintaining valid existing rights of use and access (rights-of-way)

Proposed Action

1. The prohibition of cross-country motor vehicle travel (with the exception of snowmobiles) off designated National Forest NFTS (NFTS) roads, trails, and areas by the public except as allowed by permit or other authorization.

2. Make a non-significant amendment to the Six Rivers Forest Plan to conform to the Travel Management Rule, Subpart B. The text of Recreation Standard and Guideline for Motorized Recreation 18-21, Six Rivers Forest Plan, p. IV-124, which currently reads “OHV use is restricted to designated routes” shall be replaced in its entirety with the following text “Prohibit motor vehicle travel (with the exception of snowmobiles) off designated roads, trails and areas except as allowed by permit or other authorization.”

3. Additions to the National Forest NFTS. The Six Rivers NF currently manages and maintains approximately 526 miles of NFTS roads and no NFTS motorized trails on the Lower Trinity Ranger District; and manages and maintains approximately 871 miles of NFTS roads and 36 miles of NFTS motorized trails on the Mad River Ranger District. Based on the stated purpose and need for action and route evaluation, the Six Rivers National Forest proposes to add approximately 19 miles (62 segments) of existing unauthorized routes to its NFTS as motorized trails on the Lower Trinity Ranger District; and to add approximately 39 miles (144 segments) of existing unauthorized routes to its NFTS motorized trails on the Mad River Ranger District open to the public for motor vehicle use by vehicle class and season of use. A summary of the additional NFTS motorized trails are listed below by Ranger District. Note that no additional motorcycle trails are proposed for the NFTS.

NFTS Motorized Trail Additions—Lower Trinity Ranger District
Trail type | Proposed addition (miles) | Permitted vehicle classes | Year-round (miles) | Seasonal (miles) | Subject to mitigations (miles)
High Clearance | 5 | Trails open to high clearance wheeled vehicles | 3 | 2 | 1
<=50″ | 14 | Trails open to wheeled vehicles 50 inches or less in width | <1 | 14 | 12
Motorcycle | none | Trails open to vehicles with two in-line wheels | N/A | N/A | N/A

NFTS Motorized Trail Additions—Mad River Ranger District
Trail type | Proposed addition (miles) | Permitted vehicle classes | Year-round (miles) | Seasonal (miles) | Subject to mitigations (miles)
High Clearance | 30 | Trails open to high clearance wheeled vehicles | 25 | 5 | 14
<=50″ | 9 | Trails open to wheeled vehicles 50 inches or less in width | 8 | 1 | 2
Motorcycle | none | Trails open to vehicles with two in-line wheels | N/A | N/A | N/A

The existing unauthorized routes proposed as additions to the Six Rivers NFTS as motorized trails occur across both Districts within many land allocations and resource emphasis areas; this includes proposed motorized trails within Late Successional Reserves, Inventoried Roadless Areas, and Key Watersheds as summarized in the following tables.

Trail Additions Within Areas of Interest—Lower Trinity Ranger District
Trail type | Proposed addition total (miles) | Management areas of interest: Late successional reserve (miles) | Management areas of interest: Inventoried roadless areas (miles) | Management areas of interest: Key watershed (miles)
High Clearance | 5 | 1.7 | none | 1.9
<=50″ | 14 | 2.4 | none | 5.9
Motorcycle | none | N/A | N/A | N/A

Trail Additions Within Areas of Interest—Mad River Ranger District
Trail type | Proposed addition total (miles) | Management areas of interest: Late successional reserve (miles) | Management areas of interest: Inventoried roadless areas (miles) | Management areas of interest: Key watershed (miles)
High Clearance | 30 | 10.3 | 1.9 | 2.4
<=50″ | 9 | 2.5 | 1.3 | 1.3
Motorcycle | none | N/A | N/A | N/A

4. Co-location of Motorized Trail on NFTS roads closed year-round. Approximately 7 miles (5 segments) of existing NFTS roads are proposed for dual management as both a Maintenance level 1 (closed) road and as a motorized trail open to vehicles 50″ or less in width. Approximately 7 miles (4 segments) would be located on Lower Trinity Ranger District to expand motorized recreation opportunity by linking proposed motorized trails in the Waterman Ridge and Hennessy Ridge networks. Approximately 0.2 mile (1 segment) would be located on the Mad River Ranger District to provide access to a dispersed camp.

5. Limited Changes to the National Forest NFTS Roads. The Six Rivers National Forest proposes the following changes to NFTS roads to expand motorized trail opportunities, including increasing potential loops by using existing NFTS roads as links or connections within proposed networks of motorized trails: Allow both highway licensed vehicle and non-highway licensed vehicle use on approximately 8 miles (5 segments) of existing NFTS roads currently open to highway legal vehicles only on the Lower Trinity Ranger District. Allow both highway licensed vehicle and non-highway licensed vehicle use on approximately 17½ miles (12 segments) of existing NFTS roads currently open to highway legal vehicles only on the Mad River Ranger District. Of these changes, all but approximately 2½ miles (1 segment) on the Mad River Ranger District, are subject to California Vehicle Code regulations that include the requirement of a licensed operator operating the vehicle.

6. Limited Changes to NFTS Trails. The Six Rivers National Forest proposes the following changes to NFTS trails: Allow wheeled vehicles 50 inches or less in width on approximately 4 miles (1 segment) of existing NFTS trail currently open to motorcycles to augment the Pilot Creek motorized trail network on the Mad River Ranger District. Convert approximately 6 miles (2 segments) of existing NFTS motorized trails to NFTS non-motorized trails on the Mad River Ranger District because of safety concerns on a segment of Devil's Backbone and due to lack of use and potential adverse resource effects on the Bradburn Trail.

Maps and tables detailing the proposed action can be found at http://www.fs.fed.us/r5/sixrivers/projects/ohv/. In addition, maps will be available for viewing at:

• Six Rivers National Forest Supervisor's Office, 1330 Bayshore Way, Eureka, CA 95501; phone: 707-442-1721.

• Lower Trinity Ranger District, Highway 96 (2 miles North of Willow Creek), Willow Creek, CA 95573; phone: 630-629-2118.

• Mad River Ranger District, Highway 36 (28 miles east of Bridgeville), Bridgeville, CA 95526; phone: 707-574-6233.

Responsible Official

Tyrone Kelley, Forest Supervisor, Six Rivers National Forest, 1330 Bayshore Way, Eureka, CA 95501

Nature of Decision To Be Made

The responsible official will decide whether to adopt and implement the proposed action, an alternative to the proposed action, or take no action to make changes to existing prohibitions and allowances for public motor vehicle travel within the existing Six Rivers NF NFTS and prohibit cross country motor vehicle travel by the public off the designated system. Once the decision is made, the Six Rivers NF will publish two Motor Vehicle Use Maps (MVUM) identifying the roads and trails that are designated for motor vehicle use. The MVUMs shall specify the classes of vehicles and, if appropriate, the time of year for which use is designated. Future decisions associated with changes to the MVUMs may trigger the need for documentation of environmental analysis.

This proposal does not revisit previous administrative decisions that resulted in the current NFTS. This proposal is focused on implementing Subpart B of the Travel Management Rule. Previous administrative decisions concerning road construction, road reconstruction, trail construction, and land suitability for motorized use on the existing NFTS are outside of the scope of this proposal.

Scoping Process

Public participation will be especially important at several points during the analysis. The Forest Service will be seeking information, comments, and assistance from federal, state, and local agencies and other individuals or organizations who may be interested in or affected by the proposed action.

The Six Rivers NF has been meeting with local elected officials, Tribes, and community groups, including service and professional organizations, to discuss the Travel Management Rule and travel management on the Lower Trinity and Mad River Ranger Districts since 2005. In May and June of 2005, public workshops were held in Eureka, Willow Creek, and Mad River, CA to inform the public about the Travel Management Rule. In October 2007 and April, May, and June 2008, public workshops were held in those same locations to gather information from the public about which routes they use and their concerns. Additionally, maps of inventoried routes were available on the Forest's Web site and Forest Service offices. The public used these maps to provide input into the process.

The comment period on the proposed action will extend 45 days from the date this Notice of Intent is published in the Federal Register.

The draft environmental impact statement is expected to be filed with the Environmental Protection Agency (EPA) and to be available for public review by spring 2009. EPA will publish a notice of availability of the draft EIS in the Federal Register. The comment period on the draft EIS will extend 45 days from the date the EPA notice appears in the Federal Register. At that time, copies of the draft EIS will be distributed to interested and affected agencies, organizations, and members of the public for their review and comment. It is very important that those interested in the management of the Six Rivers NF participate at that time.

The final EIS is scheduled to be completed in summer 2009. In the final EIS, the Forest Service will respond to comments received during the comment period that are: within the scope of the proposed action; specific to the proposed action; have a direct relationship with the proposed action; and include supporting reasons for the responsible official to consider. Submission of comments to the draft EIS is a prerequisite for eligibility to appeal under the 36 CFR part 215 regulations.

Comment Requested

This Notice of Intent initiates the scoping process which guides the development of the environmental impact statement.

Early Notice of Importance of Public Participation in Subsequent Environmental Review: A draft EIS will be prepared for comment. The comment period on the draft EIS will be 45 days from the date the EPA publishes the notice of availability in the Federal Register.

At this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 12, 2008.
Tyrone Kelley,
Forest Supervisor.

[FR Doc. E8-30047 Filed 12-18-08; 8:45 am]

BILLING CODE 3410-11-P